DEPARTMENT OF THE INTERIOR

Bureau of Reclamation

Pick-Sloan Missouri Basin Program, Eastern and Western Division Proposed Project Use Power Rate

AGENCY: Bureau of Reclamation, Interior.

ACTION: Reopening of comment period for review of the Pick-Sloan Missouri Basin Program, Eastern and Western Divisions, Proposed Project Use Power Rate Adjustment.

SUMMARY: The Bureau of Reclamation is reopening the comment period for the Pick-Sloan Missouri Basin Program, Eastern and Western Division Proposed Project Use Power Rate Adjustment for an additional 30 days from the date of publication of this Notice. The initial Notice proposing this adjustment was published in the Federal Register on January 11, 2010 (75 FR 1408). The public comment period ended on February 10, 2010.

DATES: Written comments on the proposed power rate adjustment will be accepted on or before May 28, 2010.

ADDRESSES: Please send written comments to Mike Ferguson, GP-2020, Power O&M Administrator, P.O. Box 36900, Billings, MT 59107-6900.

All booklets, studies, comments, letters, memoranda, and other documents made or kept by Reclamation for the purpose of developing the proposed rate for Project Use Power will be made available for inspection and copying at the Great Plains Regional Office, located at 316 North 26th Street, Billings, MT 59101.

FOR FURTHER INFORMATION CONTACT: Mike Ferguson, Bureau of Reclamation, Great Plains Regional Office at 406-247-7705 or by e-mail at mferguson@usbr.gov.

SUPPLEMENTARY INFORMATION:

Proposed Rate Adjustment

Power rates for the P-SMBP are established pursuant to the Reclamation Act of 1902 (43 U.S.C. 391 et seq.), as amended and supplemented by subsequent enactments, particularly section 9(c) of the Reclamation Project Act of 1939 (43 U.S.C. 485h (c)) and the Flood Control Act of 1944 (16 U.S.C. 825s).

Reclamation proposes to:

(a) Increase the energy charge from 12.55 mills/kWh to 16.17 mills/kWh.

(b) the monthly demand charge will remain at zero.

The Project Use Power Rate will be reviewed each time Western Area Power Administration (Western) adjusts the P-SMBP Firm Power Rate.

Dated: April 14, 2010.
Michael J. Ryan,
Regional Director.

[FR Doc. 2010-9805 Filed 4-27-10; 8:45 am]

BILLING CODE 4310-MN-P